DEPARTMENT OF TRANSPORTATION

Federal Highway Administration

[Docket No. FHWA-2024-0050]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by September 9, 2024.

ADDRESSES: You may submit comments identified by DOT Docket ID Number 0050 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Chip Millard, Reduction of Truck Emissions at Port Facilities Grant Program Manager, 202-366-4415, Office of Transportation Management (HOTM), Federal Highway Administration, Department of Transportation, 1200 New Jersey Avenue SE, Washington, DC 20590. Office hours are from 8:30 a.m. to 6:00 p.m. ET, Monday through Friday, except Federal holidays.

SUPPLEMENTARY INFORMATION:

Title: Reduction of Truck Emissions at Port Facilities Grant Program.

Background: The Bipartisan Infrastructure Law (BIL) created the Reduction of Truck Emissions at Port Facilities (RTEPF), which includes a discretionary grant program that was allocated up to $400 million over the five-year life of the BIL. The BIL provides the RTEPF Grant Program funding to test, evaluate, and deploy projects that reduce port-related emissions from idling trucks, including through the advancement of port electrification and improvements in efficiency, focusing on port operations, including heavy-duty commercial vehicles, and other related projects.

Respondents: Eligible applicants for RTEPF Grant Program funds are entities that (1) have authority over, operate, or utilize port facilities and/or intermodal port transfer facilities, (2) have authority over areas within or adjacent to ports and intermodal port transfer facilities, or (3) will test and/or evaluate technologies that reduce truck emissions at port facilities and/or intermodal port transfer facilities.

Frequency: RTEPF Grant Program Notices of Funding Opportunity (NOFOs) will be issued annually during the life of the BIL, though some years of funding created for the program may be combined, resulting in a multi-year NOFO.

Estimated Average Burden per Response: 40 hours per respondent per application.

Estimated Total Annual Burden Hours: In the first round of the RTEPF Grant Program (FY 2022-2023 NOFO), approximately 50 applications (both complete and incomplete combined) were received. It is expected a similar number of applications will be submitted for the FY 2024 NOFO, creating an estimated total of 2000 annual burden hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: July 8, 2024.
Jazmyne Lewis,
Information Collection Officer.

[FR Doc. 2024-15249 Filed 7-10-24; 8:45 am]

BILLING CODE 4910-22-P